DEPARTMENT OF HEALTH AND HUMAN SERVICES

Centers for Disease Control and Prevention

[CDC-2017-0028, Docket Number NIOSH-290]

Draft Current Intelligence Bulletin: The Occupational Exposure Banding Process: Guidance for the Evaluation of Chemical Hazards; Notice of Public Meeting; Request for Comments

Correction

In notice document 2017-5115, beginning on page 13809, in the issue of Wednesday, March 15, 2017, make the following correction:

On page 13809, in the third column, in the second line of the DATES paragraph, “Tuesday, May 23, 2016” should read, “Tuesday, May 23, 2017.”

[FR Doc. C1-2017-05115 Filed 3-29-17; 8:45 am]

BILLING CODE 1301-00-P